DEPARTMENT OF HEALTH AND HUMAN SERVICES

Centers for Medicare & Medicaid Services

[Document Identifier CMS-10453]

Public Information Collection Requirements Submitted to the Office of Management and Budget (OMB); Extension of Comment Period

AGENCY: Centers for Medicare & Medicaid Services (CMS), HHS.

ACTION: Agency information collection activities: Proposed collection; comment request; extension of comment period.

SUMMARY: This notice extends the comment period for a 60-day notice request for proposed information collection request associated with the notice [Document Identifier: CMS-10453] entitled “The Medicare Advantage and Prescription Drug Program: Part C Explanation of Benefits CFR 422.111(b)(12)” that was published in the November 26, 2012 (77 FR 70445) Federal Register. The comment period for the information collection request, which would have ended on January 25, 2013, is extended to February 1, 2013.

DATES: The comment period for the information collection request published in the January 25, 2013, Federal Register (77 FR 70445) is extended to February 1, 2013.

FOR FURTHER INFORMATION CONTACT: William Parham, (410) 786-4669.

SUPPLEMENTARY INFORMATION:

I. Background

In the FR Doc. 2012-28570 of November 26, 2012 (77 FR 70445), we published a Paperwork Reduction Act notice requesting a 60-day public comment period for the document entitled “The Medicare Advantage and Prescription Drug Program: Part C Explanation of Benefits CFR 422.111(b)(12).”

There were technical delays with making the information collection request publicly available; therefore, in this notice we are extending the comment period from the date originally listed in the November 26, 2012, notice.

II. Extension of Comment Period

We are extending the comment period for the notice [Document Identifier: CMS-10453] in FR Doc. 2012-28570 published on November 26, 2012 (77 FR 70445).

The date listed on page 70445, third column, second full paragraph, on the fifth line in the paragraph beginning with “To be assured consideration, comments and recommendations must be submitted in one of the following ways by January 25, 2013.” has been extended to February 1, 2013.”

Dated: January 16, 2013.
Martique Jones,
Deputy Director, Regulations Development Group, Office of Strategic Operations and Regulatory Affairs.

[FR Doc. 2013-01172 Filed 1-18-13; 8:45 am]

BILLING CODE 4120-01-P